DEPARTMENT OF ENERGY

Federal Energy Regulatory Commission

Combined Notice of Filings #2

Take notice that the Commission received the following electric rate filings:

Docket Numbers: ER11-2794-002.

Applicants: Midwest Independent Transmission System Operator, Inc.

Description: Midwest Independent Transmission System Operator, Inc. submits tariff filing per 35: 07-28-11 Reserve Procurement Compliance to be effective 4/1/2011.

Filed Date: 07/28/2011.

Accession Number: 20110728-5092.

Comment Date: 5 p.m. Eastern Time on Thursday, August 18, 2011.

Docket Numbers: ER11-3445-000.

Applicants: PJM Interconnection, L.L.C.

Description: PJM Interconnection, LLC's response to Commission's July 8, 2011 request for additional information.

Filed Date: 07/22/2011.

Accession Number: 20110722-5162.

Comment Date: 5 p.m. Eastern Time on Friday, August 12, 2011.

Docket Numbers: ER11-3959-001.

Applicants: Post Rock Wind Power Project, LLC.

Description: Post Rock Wind Power Project, LLC submits tariff filing per 35.17(b): Amendment to Market-Based Rate Application to be effective 8/29/2011.

Filed Date: 07/28/2011.

Accession Number: 20110728-5002.

Comment Date: 5 p.m. Eastern Time on Thursday, August 18, 2011.

Docket Numbers: ER11-4136-000.

Applicants: Southwest Power Pool, Inc.

Description: Southwest Power Pool, Inc. submits tariff filing per 35.13(a)(2)(iii: 1911R1 Kansas City Power & Light Co. LGIA to be effective 6/27/2011.

Filed Date: 07/28/2011.

Accession Number: 20110728-5000.

Comment Date: 5 p.m. Eastern Time on Thursday, August 18, 2011.

Docket Numbers: ER11-4137-000.

Applicants: Alcoa Power Generating Inc.

Description: Alcoa Power Generating Inc. submits tariff filing per 35.15: Cancellation of Tariff ID for APGI CRT June 2011 Agreement to be effective 7/28/2011.

Filed Date: 07/28/2011.

Accession Number: 20110728-5086.

Comment Date: 5 p.m. Eastern Time on Thursday, August 18, 2011.

Docket Numbers: ER11-4138-000.

Applicants: Alcoa Power Generating Inc.

Description: Alcoa Power Generating Inc. submits tariff filing per 35.15: Cancellation of Tariff ID for APGI Rate Schedule 13 to be effective 7/28/2011.

Filed Date: 07/28/2011.

Accession Number: 20110728-5088.

Comment Date: 5 p.m. Eastern Time on Thursday, August 18, 2011.

Docket Numbers: ER11-4139-000.

Applicants: Alcoa Power Generating Inc.

Description: Alcoa Power Generating Inc. submits tariff filing per 35.1: Resubmission of APGI Rate Schedule 13 and June 2011 Supplemental TSA to be effective 7/28/2011.

Filed Date: 07/28/2011.

Accession Number: 20110728-5090.

Comment Date: 5 p.m. Eastern Time on Thursday, August 11, 2011.

Take notice that the Commission received the following land acquisition reports:

Docket Numbers: LA11-2-000.

Applicants: Spring Canyon Energy LLC, Judith Gap Energy LLC, Invenergy TN LLC, Wolverine Creek Energy LLC, Grays Harbor Energy LLC, Forward Energy LLC, Willow Creek Energy LLC, Sheldon Energy LLC, Hardee Power Partners Limited, Spindle Hill Energy LLC, Invenergy Cannon Falls LLC, Beech Ridge Energy LLC, Grand Ridge Energy LLC, Grand Ridge Energy II LLC, Grand Ridge Energy III LLC, Grand Ridge Energy IV LLC, Grand Ridge Energy V LLC, VantageWind Energy LLC.

Description: Generation Site Report Second Quarter 2011 of Spring Canyon Energy LLC, et al.

Filed Date: 07/28/2011.

Accession Number: 20110728-5049.

Comment Date: 5 p.m. Eastern Time on Thursday, August 18, 2011.

Docket Numbers: LA11-2-000.

Applicants: PPL Montana, LLC, Kentucky Utilities Company, PPL Electric Utilities Corporation, Louisville Gas and Electric Company, PPL Colstrip I, LLC, PPL Colstrip II, LLC, Lower Mount Bethel Energy, LLC, PPL Montour, LLC, PPL Susquehanna, LLC, PPL Holtwood, LLC, PPL Brunner Island, LLC, PPL Maine, LLC, PPL Martins Creek, LLC, PPL Great Works, LLC, PPL New Jersey Biogas, LLC, PPL New Jersey Solar, LLC, PPL Renewable Energy, LLC, PPL EnergyPlus, LLC, LG&E Energy Marketing, Inc.

Description: Quarterly Site Acquisition Report of the PPL Companies for the second quarter 2011.

Filed Date: 07/28/2011.

Accession Number: 20110728-5073.

Comment Date: 5 p.m. Eastern Time on Thursday, August 18, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: July 28, 2011.
Nathaniel J. Davis, Sr.,
Deputy Secretary.

[FR Doc. 2011-19628 Filed 8-2-11; 8:45 am]

BILLING CODE 6717-01-P